DEPARTMENT OF ENERGY

Federal Energy Regulatory Commission

[Docket No. AD02-13-000]

Notice of Technical Conference and Agenda; Southeast Energy Infrastructure Conference

April 26, 2002.

As announced in the Notice of Conference issued on March 20, 2002, the Federal Energy Regulatory Commission (FERC) will hold a conference on May 9, 2002 to discuss issues regarding energy infrastructure in the southeastern states. These states include Virginia, North Carolina, South Carolina, Georgia, Florida, Alabama, Mississippi, Louisiana, Texas, Arkansas, and Tennessee. This one-day conference will begin at 10 a.m.¹ and conclude at approximately 5 p.m., and will be held at the Orlando World Center Marriott Resort and Conference Center, 8701 World Center Drive, Orlando, Florida (1-800-621-0638). All interested persons are invited to attend.

¹ This reflects a change in starting time from the March 20, 2002 notice.

The conference will focus on the adequacy of the electric, gas and other energy infrastructure in the Southeast, and related matters. The FERC Commissioners will attend, and the Governors and state utility commissioners of the southeastern states have been invited to participate. The goal is to identify present infrastructure conditions, needs, investment and other barriers to expansion, and environmental and landowner concerns. We look forward to an informative discussion of the issues to clarify how the FERC can facilitate and enhance a comprehensive, collaborative approach to energy infrastructure development and reliability for the southeastern states. The Federal Energy Regulatory Commission believes that without a well-functioning infrastructure, our ability to meet America's energy needs could be compromised and, secondarily, the healthy, sustainable wholesale markets we are working toward cannot succeed.

The conference Agenda is appended to this Notice. As indicated, the purpose of the conference is to discuss regional infrastructure issues among the panelists, and federal and state officials. It is not intended to deal with issues pending in individually docketed cases before the Commission, such as applications involving hydropower, natural gas certificates, or the formation of Regional Transmission Organizations (RTOs). Therefore, all participants are requested to address the agenda topics and avoid discussing the merits of individual proceedings.

Opportunities for Listening to and Obtaining Transcripts of the Conference

The Capital Connection will offer this meeting live via telephone coverage for a fee. There will not be live video coverage or videotapes of the conference. For more information about Capitol Connection's phone bridge, contact David Reininger or Julia Morelli (703-993-3100), or go to www.capitolconnection.gmu.edu.

Audio tapes of the meeting will be available from VISCOM (703-715-7999).

Additionally, transcripts of the conference will be immediately available from Ace Reporting Company (202-347-3700 or 1-800-336-6646), for a fee. They will be available for the public on the Commission's RIMS system two weeks after the conference.

* * * * *

A reminder to please register for the conference online on the Commission web site at http://www.ferc.gov/calendar/courses-outreach/coursesoutreach.htm. Scroll down and click on “Southeast Energy Infrastructure Conference”. There is no registration fee.

Questions about the conference program should be directed to:

Carol Connors, Office of External Affairs, Federal Energy Regulatory Commission, 888 First Street, NE., Washington, DC 20426, carol.connors@ferc.gov.

Magalie R. Salas,
Secretary.

Federal Energy Regulatory Commission

[Docket No. AD02-13-000]

Southeast Energy Infrastructure Conference; Conference Agenda

The Orlando World Center Marriott Resort and Conference Center, 8701 World Center Drive, Orlando, Florida, May 9, 2002.

I. Opening Remarks and Introductions—10 a.m. to 10:30 a.m.

Chairman Pat Wood, Commissioner Nora Mead Brownell, Commissioner

William Massey and Commissioner Linda Breathitt

II. Overview of Current Energy Infrastructure—10:30a.m. to 10:45 a.m.

• Jeff Wright, Office of Energy Projects, FERC

III. Forecasts for Future Energy Use and Economic Impacts of Energy—10:45 a.m. to 11:15 a.m.

What is the Southeast region's economic and demographic outlook over the coming decade?

What is the forecasted growth in energy needs?

How much energy is available and at what prices?

Where is additional energy needed?

• Mary Novak, Managing Director—Energy Consulting, DRI-WEFA

• Scott Sitzer, Director, Coal & Electric Power Div., EIA

IV. Near-term Energy Infrastructure Needs and Adequacy of Supplies—11:15 a.m. to 12:45 p.m.

What are the high priority infrastructure needs for today?

Where are additional transmission lines needed?

Can you identify areas or locations having infrastructure constraints that affect energy reliability?

What areas have a shortage of pipeline capacity? How often do customers' pipeline capacity needs go unsatisfied?

What are the ramifications if the high-priority infrastructure needs in the region are not built?

Roundtable discussion on infrastructure improvements needed in electric, hydroelectric, and natural gas facilities.

• Walter Revell, Chairman & CEO, H.J. Ross Associates, Inc.

• William K. Newman, Senior Vice President, Transmission Planning & Operations, Southern Company Services, Inc

• Terry Boston, Executive Vice President, Transmission/Power Supply Group, Tennessee Valley Authority

• David P. Pursell, Director of Research, Simmons & Company, International

• Toi Anderson, Manager, Project Development (Southern Markets) Williams Gas Pipeline

• Paula Rosput, Chairman & CEO, AGL Resources

Lunch Break—12:45 p.m. to 2 p.m.

V. Identifying Factors Affecting Adequate Energy Infrastructure, Investment, and Alternative Actions—2 p.m. to 3:30 p.m.

Why is needed infrastructure delayed or not being built?

What barriers have to be overcome?

What can state and federal governments do to overcome these barriers?

What planning process changes would you recommend to address the issues?

Do alternatives exist to new infrastructure projects?

Roundtable discussion of energy infrastructure barriers (e.g., barriers to siting, construction, or investment) and alternatives to construction.

• Frank Gallaher, President, Fossil Operations & Transmission, Entergy

• John Boone, Senior Vice President, Gulf South Pipeline Co.

• Hamilton “Buck” Oven, Administrator, Siting Coordination Office, Florida Department of Environmental Protection

• Gini Cooper, Chairman, Floyd Unified Landowners Association

• Richard Roos-Collins, Director, Dispute Resolution, Natural Heritage Institute

• Christine Tezak, Electricity Analyst, Washington Research Group, Schwab Capital Markets, L.P.

• Steven Gilliland, Senior Vice President, Asset Management, Duke Energy, N.A.

Break—3:30 p.m. to 3:45 p.m.

VI. Discussion by State and Federal Officials of Next Steps and Closing Remarks by FERC Commissioners—3:45 p.m. to 5:00 p.m.

• Braulio Baez, Commissioner, Florida Public Service Commission

• Michael Callahan, Chairman, Mississippi Public Service Commission

• Irma Muse Dixon, Commissioner, Louisiana Public Service Commission

• Samuel James “Jimmy” Ervin, IV, Commissioner, North Carolina Utilities Commission

• Sandra L. Hochstetter, Chairman, Arkansas Public Service Commission

* * * * *

[FR Doc. 02-10854 Filed 5-1-02; 8:45 am]

BILLING CODE 6717-01-P